DEPARTMENT OF THE INTERIOR

Bureau of Land Management

[MT-921-01-1320-EL-P; MTM 88405]

Notice of Competitive Coal Lease Offering by Sealed Bid

AGENCY: Bureau of Land Management, Montana State Office

ACTION: Notice of competitive coal lease offering by sealed bid MTM 88405.

SUMMARY: Notice is hereby given that the coal resources in the lands described below in Big Horn County, Montana, will be offered for competitive lease by sealed bid. This offering is being made as a result of an application filed by Spring Creek Coal Company, in accordance with the provisions of the Mineral Leasing Act of 1920, as amended (41 Stat. 437; 30 U.S.C. 181 et seq.).

The lease sale will be held at 11:00 a.m., Monday, November 27, 2000, in the main conference room, side B, at the Bureau of Land Management, 5001 Southgate Drive, Billings, Montana 59102. Bids for the tract will be in the form of sealed bids. Sealed bids clearly marked “Sealed Bid for MTM 88405 Coal Sale—Not to be opened before 11:00 a.m., Monday, November 27, 2000” must be submitted on or before 10:00 a.m., November 27, 2000, to the cashier, Bureau of Land Management, Montana State Office, 5001 Southgate Drive, Post Office Box 36800, Billings, Montana 59107-6800.

An Environmental Assessment of the proposed coal development and related requirements for consultation, public involvement, and hearings have been completed in accordance with 43 CFR 3425. The results of these activities were a finding of no significant environmental impact.

The coal resource to be offered consists of all recoverable reserves in the following-described lands:

T. 8 S., R. 39 E., P.M.M.

Sec. 13: SW¼SW¼SW¼, SW¼SE¼SW¼SW¼

Sec. 14: S½SW¼NE¼SE¼, S½NE¼SE¼SE¼, NW¼NE¼SE¼SE¼, S½SE¼SE¼, NW¼SE¼SE¼

Sec. 23: NE¼NE¼, SE¼SW¼NW¼NE¼, N½SW¼NW¼NE¼, E½NW¼NE¼

Sec. 24: NW¼SE¼NW¼NW¼, N½SW¼NW¼NW¼, N½NW¼NW¼

Containing 150.00 acres, Big Horn County, Montana.

The tract in this lease offering contains split estate lands. The surface is not held by a qualified surface owner as defined in the regulations, 43 CFR 3400.0-5.

SUPPLEMENTARY INFORMATION: The tract will be leased to the qualified bidder of the highest cash amount provided that the high bid meets the fair market value of the coal resource. The minimum bid for the tract is $100 per acre or fraction thereof. No bid that is less that $100 per acre, or fraction thereof, will be considered. The bids should be sent by certified mail, return receipt requested, or be hand-delivered. The cashier will issue a receipt for each hand-delivered bid. Bids received after 10:00 a.m., Monday, November 27, 2000, will not be considered. The minimum bid is not intended to represent fair market value. The fair market value will be determined by the authorized officer after the sale.

If identical high bids are received, the tying high bidders will be requested to submit follow-up sealed bids until a high bid is received. All tie-breaking sealed bids must be submitted within 15 minutes following the Sale Official's announcement at the sale that identical high bids have been received.

A lease issued as a result of this offering will provide for payment of an annual rental of $3 per acre, or fraction thereof; and a royalty payable to the United States of 12.5 percent of the value of coal mined by surface methods and 8.0 percent of the value of coal mined by underground methods. The value of the coal shall be determined in accordance with 30 CFR 206.250.

Bidding instructions for the tract offered and the terms and conditions of the proposed coal lease are included in the Detailed Statement of Lease Sale. Copies of the statement and the proposed coal lease are available at the Montana State Office. Casefile MTM 88405 is also available for public inspection at the Montana State Office.

FOR FURTHER INFORMATION CONTACT: Bettie Schaff, Land Law Examiner or Rebecca Good, Coal Coordinator at (406) 896-5063 or 896-5080, respectively.

Dated: October 11, 2000.
Randy D. Heuscher,
Chief, Branch of Solid Minerals.

[FR Doc. 00-26560 Filed 10-16-00; 8:45 am]

BILLING CODE 4310-$$-P